DEPARTMENT OF JUSTICE

National Institute of Corrections

Solicitation for a Cooperative Agreement—Evidence Based Strategic Planning in Southern California

AGENCY: National Institute of Corrections, Department of Justice.

ACTION: Solicitation for a cooperative agreement.

SUMMARY: The National Institute of Corrections (NIC), Community Corrections Division, is seeking applications for the development of evidence based strategic plans in four Southern California County Probation Departments. Efforts to develop initial plans in county probation departments will happen over a 9-month period, and will be carried out in conjunction with the NIC Community Corrections Division. NIC Community Corrections staff will direct and participate in the planning efforts to ensure consistency with other evidence based planning and implementation work coordinated through NIC. Note that this particular Cooperative Agreement is intended to cover only the initial strategic planning phase for each site, as described below in the section entitled Supplementary Information.

DATES: Applications must be received by 4 p.m. EDT on Tuesday, June 2, 2009.

ADDRESSES: Mailed applications must be sent to: Director, National Institute of Corrections, 320 First Street, NW., Room 5007, Washington, DC 20534. Applicants are encouraged to use Federal Express, UPS, or a similar service to ensure delivery by the due date, as mail at NIC is sometimes delayed due to security screening.

Applicants who wish to hand-deliver their applications should bring them to 500 First Street, NW., Washington, DC 20534, and dial 202-307-3106, ext. 0, at the front desk for pickup.

Faxed or e-mailed applications will not be accepted.

FOR FURTHER INFORMATION CONTACT: A copy of this announcement and the required application forms can be downloaded from the NIC Web page at http://www.nicic.gov/cooperativeagreements.

All technical questions concerning this announcement should be directed to Pam Davison at 202-353-0484 or at pdavison@bop.gov.

SUPPLEMENTARY INFORMATION:

Background: Since 2002, NIC has been involved in evidence based planning and implementation initiatives in several State and local court and community corrections agencies. The importance of up front organizational development work, encompassed within the strategic planning process, has been critical to those agencies that have desired to maintain continuing service enhancements over time.

Strategic Planning: For purposes of this Cooperative Agreement, strategic planning includes the following activities: 1. On site orientation to evidence based information pertaining to behavior change, recidivism reduction, and organizational development processes. 2. Up front organizational assessment of each participating Probation Department, related at a minimum to: (a) Readiness for change; (b) Knowledge of evidence based principles; (c) Leadership prowess; (d) Operational and project management skills; and (e) Collaborative partnerships. 3. Inventory of risk tools, performance evaluation processes and data reports. 4. Investigation of each agency's access to data and capability for reporting and data analysis. 5. Establishment of a planning process and documentation framework. 6. Creation of adjunct sub-plans as needed that roll up to the umbrella plan; such as plans specifically aimed at data and outcomes, communication, and quality assurance.

Physical Documentation: Simple matrix planning formats and GANTT charts with annotations are preferred.

Scope of Work/Products: At the end of the nine-month period, each of the participating county probation departments should have established a strategic planning process that can be engaged to support the continuing progress of evidence based implementation. Tangible products of the awardee's involvement with the county and with NIC should at a minimum include: (a) Gap analysis results for the organization, its leadership and management, and its offender services; (b) Matrix Planning format; (c) Timelines documented on a changeable GANTT chart; (d) Measureable objectives and goals, related ultimately to recidivism reduction.

Budget and Strategy Narratives: The applicant's submission narratives should include suggested on-site protocols for training, assessing and facilitating group planning processes. Include costs associated with assessment tools, analysis and travel.

Please also note suggested budget adjustments for contingencies, such as the possibility that only three counties participate; or that an additional fifth county participates.

Application Requirements: An application package must include OMB Standard Form 425, Application for Federal Assistance; a cover letter that identifies the audit agency responsible for the applicant's financial accounts as well as the audit period or fiscal year that the applicant operates under (e.g., July 1 through June 30); and an outline of projected costs with the budget and strategy narratives described in this announcement. The following additional forms must also be included: OMB Standard Form 424A, Budget Information—Non-construction Programs; OMB Standard Form 424B, Assurances—Non-construction Programs (both available at http://www.grants.gov); DOJ/FBOP/NIC Certification Regarding Lobbying, Debarment, Suspension and Other Responsibility Matters; and the Drug-Free Workplace Requirements (available at http://www.nicic.org/Downloads/PDF/certif-frm.pdf.)

Applications should be concisely written, typed double-spaced and reference the NIC Application Number and Title provided in this announcement.

If you are hand delivering or submitting via Fed-Ex, please include an original and three copies of your full proposal (program and budget narrative, application forms, assurances and other descriptions). The original should have the applicant's signature in blue ink. Electronic submissions will only be accepted via http://www.grants.gov.

The narrative portion of the application should include, at a minimum: brief paragraph indicating the applicant's understanding of the project's purpose; brief paragraph that summarizes the project goals and objectives; clear description of the methodology that will be used to complete the project and achieve its goals; statement or chart of measureable project milestones and time lines for the completion of each milestone, description of the qualifications of the applicant organization and a resume for the principle and each staff member assigned to the project that documents relevant knowledge, skills and ability to carry out the project; budget that details all costs for the project, shows consideration for all contingencies for this project, and notes a commitment to work within the proposed budget.

The total narrative portion of the application should not exceed ten double-spaced type written pages, excluding attachments related to credentials and relevant experience of staff.

Authority: Pub. L. 93-415.

Funds Available: NIC is seeking applicants' best ideas regarding accomplishments of the scope of work and the related costs for achieving the goals and objectives of this solicitation. Funds may only be used for the activities that are linked to the desired outcomes of the project.

Eligibility of Applicants: An eligible applicant is any State or general unit of local government, private agency, educational institution, organization, individual or team with expertise in the described areas. Applicants must have demonstrated ability to implement a project of this size and scope.

Review Considerations: Applications will be subject to the NIC Review Process. The criteria for the evaluation of each application will be as follows: 1. Organizational/Staff Background (30%). NIC will review the background, experience and expertise of the proposed project staff, including subcontractors. Do staff have previous experience, working with community corrections organizations? What expertise and experience does the project team have with organizational development issues, including organizational and staff assessment? Does the staff have experience and expertise in strategic planning, and specifically, in strategic planning toward evidence-based implementation in probation and the court? Is the number of staff involved realistic and appropriate for the scope of the work, and does the applicant have the capacity to deliver all aspects of this project on time? Is there a reason that each member of the proposed team has been included? 2. Project Design/Content (50%). Does the applicant clearly understand the goals of this project? Is the practical application of research-based principles evident in the project design? Are project tasks, timelines, benchmarks and expected objectives evident? How sound are the technical strategies proposed? Have the strategies proved to be fruitful in other projects? Will the applicant be able to deliver matrix-style formats and gantt charts as requested? Are these applications transferable to the field? Are the final work products identified, and do the proposed strategies lead to their completion within the time frame? How will the applicant measure its own performance and the performance of adjunct team members? Is the applicant willing to meet with NIC staff as needed? 3. Budget (20%). Does the budget narrative clearly tie to the numbers; and, can the products be delivered on the desired timeline, within the proposed budget? Are the contingencies, including the addition or subtraction of a county department, addressed? Are the final work products clearly defined and identified on the work plan? Is a gantt chart provided that aligns budget with objectives along a timeline that shows, at a minimum, quarterly benchmarks?

Note: NIC will NOT award a cooperative agreement to an applicant who does not have a Dun and Bradstreet Database Universal Number (DUNS) and is not registered in the Central Contractor Registry (CCR).

Applicants can receive a DUNS number at no cost by calling the dedicated toll-free DUNS number request line at 800-333-0505 (if you are a sole proprietor, dial 866-705-5711 and select option 1.)

Applicants may register in the CCR Online at the CCR Web site: http://www.ccr.gov. A CCR handbook and worksheet can also be reviewed at the Web site.

Number of Awards: One.

Applicant's Conference: An applicant's telephone conference will be held on Wednesday, May 6, between noon and 1:30 p.m. EDT. Applicants who are interested in participating in this applicants' conference call should indicate their expectation to participate by e-mailing Pam Davison at pdavison@bop.gov no later than Monday, May 4, at noon EDT. This telephone conference will give applicants the opportunity to ask questions about the project and the application procedures. Participation in the telephone conference for applicants is optional.

Note that interested applicants need to provide complete contact information, including e-mail address and phone number, to Pam Davison when they indicate their expectation to participate.

NIC Opportunity Number: 09C81. This number should appear as a reference line in the cover letter, where the opportunity number is requested on the Standard Form 424, and outside of the envelope in which the application is sent.

Catalog of Federal Domestic Assistance Number: 16.602 Executive Order 12372: This project is not subject to the provision of Executive Order 12372.

Morris L. Thigpen,
Director, National Institute of Corrections.

[FR Doc. E9-8467 Filed 4-13-09; 8:45 am]

BILLING CODE 4410-36-P